DEPARTMENT OF THE INTERIOR

Minerals Management Service

Outer Continental Shelf (OCS) Policy Committee; Notice and Agenda for Meeting

AGENCY: Minerals Management Service (MMS), Interior.

ACTION: Notice of Meeting.

SUMMARY: The OCS Policy Committee will meet at the Department of the Interior in Washington, DC.

DATES: Thursday, May 6, 2010, 2 p.m. to 3:30 p.m.

ADDRESSES: The Department of the Interior, 1849 C Street, NW., Washington, DC 20240, telephone (202) 208-3530.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal States, local government, environmental community, industry and other parties involved with the OCS Program. It provides policy advice to the Secretary of the Interior through the Director of the MMS on all aspects of leasing, exploration, development, and protection of OCS resources.

The agenda will cover key national issues on offshore energy including the 5-Year OCS Oil and Gas Leasing Program for 2012-2017 and will include comments from the Secretary.

The meeting is open to the public. Approximately 50 visitors can be accommodated on a first-come-first-served basis. Please be aware that the Department of the Interior is a Federal Government facility and Government issued picture identification must be presented to enter the building.

Upon request, interested parties may submit written statements to the OCS Policy Committee. Such requests should be made no later than May 3, 2010, to Jeryne Bryant. Requests should be accompanied by a summary of the statement to be made. Please see FOR FURTHER INFORMATION CONTACT section for address and telephone number.

Minutes of the OCS Policy Committee meeting will be available for public inspection and copying at the MMS in Herndon, Virginia.

Authority: Federal Advisory Committee Act, Public Law 92-463, 5 U.S.C. Appendix 1, and the Office of Management and Budget's Circular No. A-63, Revised.

Dated: April 15, 2010.
Robert P. LaBelle,
Acting Associate Director for Offshore Energy and Minerals Management.

[FR Doc. 2010-9104 Filed 4-20-10; 8:45 am]

BILLING CODE 4310-MR-P